DEPARTMENT OF LABOR

Employment and Training Administration

[TA-W-61,123]

A.O. Smith Electrical Products Company, Mcminnville, TN; Notice of Termination of Investigation

Pursuant to Section 221 of the Trade Act of 1974, as amended, an investigation was initiated on March 16, 2007 in response to a petition filed by a company official on behalf of workers of A.O. Smith Electrical Products Company, McMinnville, Tennessee.

This petition is a duplicate of an earlier petition (TA-W-61,080) filed on March 8, 2007, that is the subject of an ongoing investigation for which a determination has not yet been issued. Further investigation in this case would serve no purpose. Therefore, the investigation under this petition has been terminated.

Signed at Washington, DC, this 20th day of March, 2007.
Linda G. Poole,
Certifying Officer, Division of Trade Adjustment Assistance.

[FR Doc. E7-5851 Filed 3-29-07; 8:45 am]

BILLING CODE 4510-FN-P